DEPARTMENT OF VETERANS AFFAIRS

Advisory Committee on Disability Compensation, Notice of Meeting

The Department of Veterans Affairs (VA) gives notice under the Federal Advisory Committee Act, 5 U.S.C. ch. 10, that the Advisory Committee on Disability Compensation (hereinafter the Committee) will hold meeting sessions on Tuesday, July 30, 2024, through Thursday, August 1, 2024, at various locations in Columbia, South Carolina, and shown below. The meeting sessions will begin and end as follows:

Date | Time | Location | Open session
July 30, 2024 | 9:00 a.m.-4:30 p.m. Eastern Daylight Time (EDT) | Columbia Regional Office, 6437 Garners Ferry Road, Columbia, SC 29209 | No.
July 31, 2024 | 9:00 a.m.-3:30 p.m. EDT | Columbia Regional Office, 6437 Garners Ferry Road, Columbia, SC 29209 | Yes.
August 1, 2024 | 9:00 a.m.-12:00 p.m. EDT | Columbia VA Health Care System, 6439 Garners Ferry Rd., Columbia, SC 29209 | No.
August 1, 2024 | 2:00 p.m.-4:30 p.m. EDT | Columbia, SC Vet Center, 1710 Richland Street Suite A, Columbia, SC 29201 | No.

Sessions are open to the public, except when the Committee is conducting tours of VA facilities. Tours of VA facilities are closed to protect Veterans' privacy and personal information, in accordance with 5 U.S.C. 552b(c)(6).

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the VASRD, and give advice on the most appropriate means of responding to the needs of Veterans relating to disability compensation in the future.

On Tuesday, July 30, 2024, the Committee will convene a closed session from 9:00 a.m. to 4:30 p.m. EDT, as it tours the Columbia Regional Office. Tours of VA facilities are closed to protect Veterans' privacy and personal information, in accordance with 5 U.S.C Sec. 552b(c)(6).

On Wednesday, July 31, 2024, the Committee will convene an open session from 9:00 a.m. to 3:30 p.m. EDT to hold a Veterans Townhall and meet with Veteran Service Officers and Congressional/Senatorial staffers.

On Thursday, August 1, 2024, the Committee will convene a closed session from 9:00 a.m. to 4:30 p.m. EDT, as it tours the Columbia VA Health Care System and the Columbia Vet Center. Tours of VA facilities are closed to protect Veterans' privacy and personal information, in accordance with 5 U.S.C 552b(c)(6).

The public is invited to address the Committee during the public comment period, which will be open for 30 minutes from 11:00 a.m. to 11:30 a.m. EDT on Wednesday, July 31, 2024. The public can also submit one-page summaries of their written statements for the Committee's review. Public comments must be received no later than July 24, 2024, for inclusion in the official meeting record. Please send these comments to Jadine Piper of the Veterans Benefits Administration, Compensation Service, at 21C_ACDC.VBACO@va.gov.

Additionally, any member of the public or media planning to attend or seeking additional information, or those who wish to obtain a copy of the agenda should contact Jadine Piper at 21C_ACDC.VBACO@va.gov, the call-in number (United States, Chicago) for those who would like to attend the meeting is: 872-701-0185; phone conference ID: 101 350 725 #. Members of the public may also access the meeting by pasting the following URL into a web browser: https://bit.ly/ACDCMeetingColumbia2024.

Dated: July 9, 2024.
Jelessa M. Burney,
Federal Advisory Committee Management Officer.

[FR Doc. 2024-15328 Filed 7-11-24; 8:45 am]

BILLING CODE 8320-01-P